DEPARTMENT OF ENERGY

Energy Information Administration

Agency Information Collection Extension

AGENCY: U.S. Energy Information Administration (EIA), Department of Energy.

ACTION: Notice and Request for OMB Review and Comment.

SUMMARY: EIA has submitted an information collection request to the OMB for extension under the provisions of the Paperwork Reduction Act of 1995. The information collection requests a three-year extension of its information collection, EIA-882T, “Generic Clearance for Questionnaire Testing, Evaluation, and Research.” The proposed collection will utilize qualitative and quantitative methodologies to pretest questionnaires and validate EIA survey forms data quality, including conducting pretest surveys, pilot surveys, respondent debriefings, cognitive interviews, usability interviews, and focus groups.

DATES: Comments regarding this proposed information collection must be received on or before September 5, 2012. If you anticipate that you will be submitting comments, but find it difficult to do so within the period of time allowed by this notice, please advise the DOE Desk Officer at OMB of your intention to make a submission as soon as possible. The Desk Officer may be telephoned at 202-395-4718 or contacted by email at Chad_S_Whiteman@omb.eop.gov.

ADDRESSES: Written comments should be sent to the DOE Desk Officer, Office of Information and Regulatory Affairs, Office of Management and Budget, New Executive Office Building, Room 10102, 735 17th Street NW., Washington, DC 20503. And to Richard J. Reeves, U.S. Energy Information Administration, 1000 Independence Ave. SW., Washington, DC 20585.

FOR FURTHER INFORMATION CONTACT: Requests for additional information or copies of the information collection instrument and instructions should be directed to Richard Reeves, U.S. Energy Information Administration, 1000 Independence Ave. SW., Washington, DC 20585, phone: 202-586-5856, email: richard.reeves@eia.gov.

SUPPLEMENTARY INFORMATION: This information collection request contains:

(1) OMB No.: 1905-0186;

(2) Information Collection Request Title: Generic Clearance for Questionnaire Testing, Evaluation, and Research;

(3) Type of Request: Extension, Without Change, of a Previously Approved Collection;

(4) Purpose: The U.S. Energy Information Administration (EIA) is requesting a three-year approval from the Office of Management and Budget (OMB) to utilize qualitative and quantitative methodologies to pretest questionnaires and validate the quality of the data that is collected on EIA survey forms. This authority would allow EIA to conduct pretest surveys, pilot surveys, respondent debriefings, cognitive interviews, usability interviews, and focus groups. Through the use of these methodologies, EIA will improve the quality of data being collected, reduce or minimize respondent burden, increase agency efficiency, and improve responsiveness to the public. This authority would also allow EIA to improve data collection in order to meet the needs of EIA's customers while also staying current in the evolving nature of the energy industries.

The specific methods proposed for the coverage by this clearance request are:

Field Testing

Pilot Surveys

Respondent Debriefings

Cognitive Interviews

Usability Interviews

Focus Groups;

(5) Annual Estimated Number of Respondents: 1,000;

(6) Annual Estimated Number of Total Responses: 1,000;

(7) Annual Estimated Number of Burden Hours: 1,000;

(8) Annual Estimated Reporting and Recordkeeping Cost Burden: There are not any costs associated with these survey methods other than the burden hours.

Statutory Authority: Section 13(b) of the Federal Energy Administration Act of 1974, 93, codified at 15 U.S.C. 772(b).

Issued in Washington, DC, on July 31, 2012.
Stephanie Brown,
Director, Office of Survey Development and Statistical Integration, U.S. Energy Information Administration.

[FR Doc. 2012-19103 Filed 8-3-12; 8:45 am]

BILLING CODE 6450-01-P